DEPARTMENT OF JUSTICE

Notice of Lodging of Proposed Consent Decree Under the Clean Air Act

On September 19, 2013, the Department of Justice lodged a proposed Consent Decree with the United States District Court for the Southern District of Texas in the lawsuit entitled United States v CITGO Petroleum Corporation, Case No. 4:13-cv-02762.

The Consent Decree resolves the claims of the United States set forth in the complaint against CITGO Petroleum Corporation for violations of Section 211 of the Clean Air Act, 42 U.S.C. 7445, and the regulations promulgated thereunder at 40 CFR part 80 (the “fuels regulations”), during production of gasoline at its Lake Charles, Louisiana, and Lemont, Illinois refineries. Under the proposed Consent Decree, CITGO has agreed to pay a civil penalty of $737,000 and to perform environmental mitigation projects valued at $500,000.

The publication of this notice opens a period for public comment on the Consent Decree. Comments should be addressed to the Assistant Attorney General, Environment and Natural Resources Division, and should refer to United States of America v. CITGO Petroleum Corporation, D.J. Ref. No. 90-5-2-1-10162. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Thomas P. Carroll,
Assistant Section Chief, Environmental Enforcement Section, Environment and Natural Resources Division.

[FR Doc. 2013-23620 Filed 9-26-13; 8:45 am]

BILLING CODE 4410-15-P